DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Morehead and South Fork Railroad

[Waiver Petition Docket Number FRA-2006-25520]

The Morehead and South Fork Railroad (MSF) has petitioned for a temporary waiver of compliance from the requirements of 49 U.S.C. 21103(a), the Federal Hours of Service law (HSL). This provision requires the railroad to neither require nor allow train employees to begin or remain on duty in excess of 12 hours in a 24-hour period without receiving the appropriate 8- or 10-hour statutory off-duty period. However, the HSL contains a provision (in 49 U.S.C. 21102(a)) permitting a railroad that employs not more than 15 employees subject to the statute, to seek an exemption from the 12-hour limitation. The MSF states that it is the railroad's intent to use such a waiver only in emergency situations and not on a daily basis.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (Docket Number FRA-2006-25520) and must be submitted to the Docket Clerk, DOT Central Docket Management Facility, Room PL-401 (Plaza Level), 400 7th Street, SW., Washington, DC 20590-0001. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on April 20, 2007.
Michael J. Logue,
Deputy Associate Administrator for Safety Compliance and Program Implementation.

[FR Doc. E7-8022 Filed 4-25-07; 8:45 am]

BILLING CODE 4910-06-P